DEPARTMENT OF DEFENSE

GENERAL SERVICES ADMINISTRATION

NATIONAL AERONAUTICS AND SPACE ADMINISTRATION

[OMB Control No. 9000-0177; Docket No. 2024-0053; Sequence No. 11]

Information Collection; Reporting Executive Compensation and First-tier Subcontract Awards

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on a reinstatement of a previously approved information collection concerning reporting executive compensation and first-tier subcontract awards. DoD, GSA, and NASA invite comments on: whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology.

DATES: DoD, GSA, and NASA will consider all comments received by July 23, 2024.

ADDRESSES: DoD, GSA, and NASA invite interested persons to submit comments on this collection through https://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite OMB Control No. 9000-0177, Reporting Executive Compensation and First-tier Subcontract Awards. Comments received generally will be posted without change to https://www.regulations.gov, including any personal and/or business confidential information provided. To confirm receipt of your comment(s), please check www.regulations.gov, approximately two to three days after submission to verify posting.

FOR FURTHER INFORMATION CONTACT: Zenaida Delgado, Procurement Analyst, at telephone 202-969-7207, or zenaida.delgado@gsa.gov.

SUPPLEMENTARY INFORMATION:

A. OMB Control Number, Title, and Any Associated Form(s)

9000-0177, Reporting Executive Compensation and First-tier Subcontract Awards.

B. Need and Uses

This clearance covers the information that contractors must report to the Federal Subaward Reporting System (FSRS) to comply with requirements under the Federal Acquisition Regulation (FAR) clause at 52.204-10, Reporting Executive Compensation and First-Tier Subcontract Awards. OMB Control No. 3090-0292 covers the information that nonprocurement entities must submit to FSRS. The separate collection for procurement entity reporting increases clarity and visibility of the specific FAR reporting requirements. This clearance covers the following sections of FAR clause 52.204-10:

• FAR 52.204-10(d)(2), First-tier subcontract information.

Contractors shall report the following information for their first-tier subcontracts at http://www.fsrs.gov by the end of the month following the month of award of a first-tier subcontract valued at or above $30,000:

(i) Unique entity identifier for the subcontractor receiving the award and for the subcontractor's parent company, if the subcontractor has a parent company.

(ii) Name of the subcontractor.

(iii) Amount of the subcontract award.

(iv) Date of the subcontract award.

(v) A description of the products or services (including construction) being provided under the subcontract, including the overall purpose and expected outcomes or results of the subcontract.

(vi) Subcontract number (the subcontract number assigned by the contractor).

(vii) Subcontractor's physical address including street address, city, state, and country. Also include the nine-digit zip code and congressional district.

(viii) Subcontractor's primary performance location including street address, city, state, and country. Also include the nine-digit zip code and congressional district.

(ix) The prime contract number, and order number if applicable.

(x) Awarding agency name and code.

(xi) Funding agency name and code.

(xii) Government contracting office code.

(xiii) Treasury account symbol as reported in FPDS.

(xiv) The applicable North American Industry Classification System code.

Contractors shall follow the instructions at FSRS.gov to report the data. Contractors may access FSRS with their Electronic Subcontract Reporting System (eSRS) user account since access to FSRS and eSRS is accomplished with a single account, single log-in. The burden for the eSRS information collection is covered under OMB Control No. 9000-0007, Subcontracting Plans.

• FAR 52.204-10(d)(3), Executive compensation of the first-tier subcontractor.

Contractors shall report the names and total compensation of each of the five most highly compensated executives for their first-tier subcontractors for that first-tier subcontractor's preceding completed fiscal year at http://www.fsrs.gov, if—

(i) In the subcontractor's preceding fiscal year, the subcontractor received—

(A) 80 percent or more of its annual gross revenues from Federal contracts (and subcontracts), loans, grants (and subgrants), cooperative agreements, and other forms of Federal financial assistance; and

(B) $25,000,000 or more in annual gross revenues from Federal contracts (and subcontracts), loans, grants (and subgrants), cooperative agreements, and other forms of Federal financial assistance; and

(ii) The public does not have access to information about the compensation of the executives through periodic reports filed under section 13(a) or 15(d) of the Securities Exchange Act of 1934 (15 U.S.C. 78m(a), 78o(d)) or section 6104 of the Internal Revenue Code of 1986. (To determine if the public has access to the compensation information, see the U.S. Security and Exchange Commission total compensation filings at http://www.sec.gov/answers/execomp.htm.)

FAR 52.204-10(d)(1) requires contractors to report the names and total compensation of each of the five most highly compensated executives for its preceding completed fiscal year as part of the contractor's annual registration requirement in the System for Award Management (SAM) (FAR provision 52.204-7). The burden for the SAM information collection is covered under OMB Control No. 9000-0189, Certain Federal Acquisition Regulation Part 4 Requirements.

This collection of information is required to comply with section 2 of the Federal Funding Accountability and Transparency Act of 2006 (Pub. L. 109-282) (FFATA), as amended by section 6202 of the Government Funding Transparency Act of 2008 (Pub. L. 110-252). The statute required the Office of Management and Budget to establish a free, public, online database containing full disclosure of all Federal contract award information. The public may view first-tier subcontract award data at usaspending.gov.

C. Annual Burden

Respondents: 42,231.

Total Annual Responses: 266,169.

Total Burden Hours: 506,617.

Obtaining Copies: Requesters may obtain a copy of the information collection documents from the GSA Regulatory Secretariat Division by calling 202-501-4755 or emailing GSARegSec@gsa.gov. Please cite OMB Control No. 9000-0177, Reporting Executive Compensation and First-tier Subcontract Awards.

Janet Fry,
Director, Federal Acquisition Policy Division, Office of Governmentwide Acquisition Policy, Office of Acquisition Policy, Office of Governmentwide Policy.

[FR Doc. 2024-11523 Filed 5-23-24; 8:45 am]

BILLING CODE 6820-EP-P